DEPARTMENT OF TRANSPORTATION

Federal Aviation Administration

[Summary Notice No. PE-2004-32]

Petitions for Exemption; Summary of Petitions Received; Correction

AGENCY: Federal Aviation Administration (FAA), DOT.

ACTION: Notice of petitions for exemption received; correction.

SUMMARY: This document makes a correction to the summary of petitions received published in the Federal Register on March 23, 2004 (69 FR 13615). That notice contained a summary of certain petitions seeking relief from specified requirements of 14 CFR.

FOR FURTHER INFORMATION CONTACT: John Linsenmeyer (202) 267-5174, Tim Adams (202) 267-8033, or Sandy Buchanan-Sumter (202) 267-7271, Office of Rulemaking (ARM-1), Federal Aviation Administration, 800 Independence Avenue, SW., Washington, DC 20591.

Correction

In notice of petitions for exemption FR Doc. 04-6384, published on March 23, 2004 (69 FR 13615), make the following correction:

1. On page 13615, in column 2, under the heading “Petition for Exemption,” correct “Description of Relief sought: To permit the Eagle 150B-23 aircraft, which will be issued a 14 CFR 21.29 type certificate * * *” to read “Description of Relief sought: To permit the Eagle 150B-23 aircraft, which will be issued a 14 CFR 21.21 type certificate * * *”.

Issued in Washington, DC, on May 19, 2004.
Donald P. Byrne,
Assistant Chief Counsel for Regulations.

[FR Doc. 04-11786 Filed 5-24-04; 8:45 am]

BILLING CODE 4910-13-P